FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 25, 2001.

A. Federal Reserve Bank of Atlanta (Cynthia C. Goodwin, Vice President) 104 Marietta Street, N.W., Atlanta, Georgia 30303-2713:

1. Daniel C. Powers, Betsy Powers, and Pamela Powers Hollis, all from Manchester, Tennessee; to acquire additional voting shares of Coffee County Bancshares, Inc., Manchester, Tennessee, and thereby indirectly acquire additional voting shares of Coffee County Bank, Manchester, Tennessee.

B. Federal Reserve Bank of Dallas (W. Arthur Tribble, Vice President) 2200 North Pearl Street, Dallas, Texas 75201-2272:

1. Citizens National Bank of Bossier City, Employee Stock Ownership Plan (KSOP), Bossier City, Louisiana; to acquire additional voting shares of Citizens National Bancshares of Bossier, Inc., Bossier City, Louisiana, and thereby indirectly acquire additional voting shares of Citizens National Bank, Bossier City, Louisiana.

Board of Governors of the Federal Reserve System, January 5, 2001.
Robert deV. Frierson,
Associate Secretary of the Board.

[FR Doc. 01-760 Filed 1-9-01; 8:45 am]

BILLING CODE 6210-01-P